DEPARTMENT OF TRANSPORTATION

Federal Aviation Administration

14 CFR Part 71

[Airspace Docket No. 00-AGL-22]

Realignment of Federal Airways; IL

AGENCY: Federal Aviation Administration (FAA), DOT.

ACTION: Final rule.

SUMMARY: This action amends the legal descriptions of five Federal airways that align with the Northbrook Very High Frequency Omnidirectional Range/Tactical Air navigation (VORTAC). The FAA is taking this action due to the decommissioning of the Northbrook VORTAC and commissioning of the Northbrook Very High Frequency Omnidirectional Range/Distance Measuring Equipment (VOR/DME) facility. This action also reflects minor changes to the legal descriptions of five Federal airways and also makes editorial corrections to V-217.

EFFECTIVE DATE: 0901 UTC, January 25, 2001.

FOR FURTHER INFORMATION CONTACT: Bil Nelson, Airspace and Rules Division, ATA-400, Office of Air Traffic Airspace Management, Federal Aviation Administration, 800 Independence Avenue, SW., Washington, DC 20591; telephone: (202) 267-8783.

SUPPLEMENTARY INFORMATION:

Background

The Northbrook VOR/DME (formerly a VORTAC) is essential in supporting aircraft operations into, out of and above the Chicago O'Hare, IL, Class B airspace area. In the interest of aviation safety, the FAA decommissioned the VORTAC and commissioned the new VOR/DME facility. On April 4, 2000, the FAA published in the National Flight Data Digest (Issue 070-2) information pertaining to the Northbrook facility. The action was charted effective June 15, 2000, however, as a result of this relocation the legal descriptions of five Federal airways requires amendment.

The Rule

This amendment to part 71 of the Federal Aviation Regulations (14 CFR Part 71) amends the legal descriptions of five Federal airways, V-24, V-97, V-100, V-217, and V-228. These airways align with the Northbrook VOR/DME and have intersections contained in the legal descriptions. These intersections are defined by the Northbrook VOR/DME and are published on the appropriate aeronautical charts. These changes are due to the decommissioning of the Northbrook VORTAC and commissioning of the Northbrook VOR/DME facility located approximately 851 feet south of the VORTAC's prior location.

In addition, this action updates V-217 by amending the spelling of “Winnepeg” to “Winnipeg.” The FAA is taking this action to manage the navigable airspace and support navigational requirements in the vicinity north of Chicago O'Hare International Airport.

Domestic VOR Federal airways are published in Section 6010(a) of FAA Order 7400.9H dated September 1, 2000, and effective September 16, 2000, which is incorporated by reference in 14 CFR 71.1. The Federal airways listed in this document will be published subsequently in the order.

The FAA has determined that this regulation only involves an established body of technical regulations for which frequent and routine amendments are necessary to keep them operationally current. It, therefore—(1) is not a significant regulatory action” under Executive Order 12866; (2) is not a significant rule” under Department of Transportation (DOT) Regulatory Policies and Procedures (44 FR 11034, February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E, AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9H, Airspace Designations and Reporting Points, dated September 1, 2000, and effective September 16, 2000, is amended as follows:

Paragraph 6010(a)—Domestic VOR Federal Airways

* * * * *

V-24 [Revised]

From Aberdeen, SD, via Watertown, SD; Redwood Falls, MN; Rochester, MN; Lone Rock, WI; INT Lone Rock 147° and Janesville, WI, 281° radials; Janesville; INT Janesville 112° and Northbrook, IL, 291° radials; to Northbrook. From Peotone, IL, INT Peotone 152° and Brickyard, IN, 312° radials; to Brickyard.

* * * * *

V-97 [Revised]

From Dolphin, FL; La Belle, FL; St. Petersburg, FL; Seminole, FL; Pecan, GA; Atlanta, GA; INT Atlanta 001° and Volunteer, TN, 197° radials; Volunteer; London, KY; Lexington, KY; Cincinnati, OH; Shelbyville, IN; INT Shelbyville 313° and Boiler, IN, 136° radials; Boiler; Chicago Heights, IL; to INT Chicago Heights 358° and Chicago O'Hare, IL, 127° radials. From INT Northbrook, IL, 291° and Janesville, WI, 112° radials; Janesville; Lone Rock, WI; Nodine, MN; to Gopher, MN. The airspace below 2,000 feet MSL outside the United States is excluded.

* * * * *

V-100 [Revised]

From Medicine Bow, WY; Scottsbluff, NE; Alliance, NE; Ainsworth, NE; O'Neill, NE; Sioux City, IA; Fort Dodge, IA; Waterloo, IA; Dubuque, IA; Rockford, IL; INT Rockford 074° and Janesville, WI, 112° radials; INT Janesville 112° and Northbrook, IL, 291° radials; Northbrook; INT Northbrook 095° and Keeler, MI, 271° radials; Keeler; to Litchfield, MI.

* * * * *

V-217 [Revised]

From INT Chicago O'Hare, IL, 316°/DuPage, IL, 359° and Northbrook, IL, 291° radials; INT Chicago O'Hare, 316° and Badger, WI, 193° radials; Badger; Green Bay, WI; Rhinelander, WI; Duluth, MN; Hibbing, MN; Baudette, MN; INT Baudette 313° and Winnepeg, MB, 117° radials; to Winnepeg. The airspace within Canada is excluded. In addition, the portion of this airway which lies within the Beaver MOA is excluded during the times the Beaver MOA is activated.

* * * * *

V-228 [Revised]

From Stevens Point, via Dells, WI, Madison, WI; INT Madison 138° Chicago O'Hare, IL, 316° radials; INT Chicago O'Hare 316° and Northbrook, IL, 291° radials; Northbrook; INT Northbrook 110° and Gipper, MI, 290° radials; to Gipper.

* * * * *

Issued in Washington, DC, on November 2, 2000.
Reginald C. Matthews,
Manager, Airspace and Rules Division.

[FR Doc. 00-28731 Filed 11-8-00; 8:45 am]

BILLING CODE 4910-13-U